DEPARTMENT OF DEFENSE

Office of the Secretary

Department of Defense Military Family Readiness Council; Notice of Federal Advisory Committee Meeting

AGENCY: Under Secretary of Defense for Personnel and Readiness, Department of Defense Military Family Readiness Council, Department of Defense.

ACTION: Notice of federal advisory committee meeting.

SUMMARY: The Department of Defense (DoD) is publishing this notice to announce that the following Federal Advisory Committee meeting of the Department of Defense Military Family Readiness Council will take place.

DATES: Open to the public, Tuesday, March 19, 2019 from 10:00 a.m. to 12:00 p.m. ADDRESSES: The address of the open meeting is the Pentagon, 1155 Defense Pentagon PLC2, Pentagon Library and Conference Center, Room B6, Washington, DC 20301.

FOR FURTHER INFORMATION CONTACT: William Story, (571) 372-5345 (Voice), (571) 372-0884 (Facsimile), OSD Pentagon OUSD P-R Mailbox Family Readiness Council, osd.pentagon.ousd-p-r.mbx.family-readiness-council@mail.mil (Email). Mailing address is Office of the Deputy Assistant Secretary of Defense (Military Community & Family Policy), Office of Family Readiness Policy, 4800 Mark Center Drive, Alexandria, VA 22350-2300, Room 3G15. Website: http://www.militaryonesource.mil/those-who-support-mfrc. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: This is the second meeting of the Council for Fiscal Year 2019 (FY2019). During this meeting, subject matter experts will present information to the Council concerning Accessions and Medical Record Policies and Procedures: Impact on Military Children Who Received Mental and Behavioral Health Services, the second of two focus areas chosen by the Council for FY2019.

Agenda: Opening Remarks, Status Updates, Administrative Issues, Review of Written Public Submissions, Overview and Background, Accessions Policies and Procedures, Tricare Medical Records Policies and Procedures, Future Implications Related to Medical Records, Q&A Session and Council Member Discussion, Closing Remarks. Note: Exact order may vary.

Meeting Accessibility: This meeting is open to the public. Members of the public who are interested in attending this meeting must RSVP online to osd.pentagon.ousd-p-r.mbx.family-readiness-council@mail.mil no later than March 12, 2019. Meeting attendee RSVPs should indicate if an escort is needed to the meeting location (non-CAC Card holders need an escort) and if handicapped accessible transportation is needed. All visitors without CAC cards that are attending the MFRC must pre-register prior to entering the Pentagon. RSVPs to the MFRC mailbox needing escort to the meeting will be contacted by email from the Pentagon Force Protection Agency (PFPA) with instructions for registration. Please follow these instructions carefully. Otherwise, members of the public may be denied access to the Pentagon on the day of the meeting. Members of the public who are approved for Pentagon access should arrive at the Pentagon Visitors Center waiting area (Pentagon Metro Entrance) no later than 9:00 a.m. on the day of the meeting to allow time to pass through security check points and be escorted to the meeting location. Contact Eddy Mentzer, (571) 372-0857 (Voice), (571) 372-0884, (Facsimile) if you have any questions about your RSVP.

Written Statements: Persons interested in providing a written statement for review and consideration by Council members attending the March 19, 2019 meeting must do so no later than close of business Tuesday, March 5, 2019, through the Council mailbox at osd.pentagon.ousd-p-r.mbx.family-readiness-council@mail.mil. Written statements received after this date will be provided to Council members in preparation for the third MFRC meeting of FY2019. The Designated Federal Officer (DFO) will review all timely submissions and ensure submitted written statements are provided to Council members prior to the meeting that is subject to this notice. Written statements must not be longer than two type-written pages and should address the following details: Issue or concern, discussion, and a recommended course of action. Those who make submissions are requested to avoid including personally identifiable information (PII) such as names of adults and children, phone numbers, addresses, social security numbers and other contact information within the body of the written statement. Links or supporting documentation may also be included, if necessary, to provide brief appropriate historical context and background information.

Dated: February 14, 2019.
Shelly E. Finke,
Alternate OSD Federal Register Liaison Officer, Department of Defense.

[FR Doc. 2019-02818 Filed 2-19-19; 8:45 am]

BILLING CODE 5001-06-P